DEPARTMENT OF LABOR

Occupational Safety and Health Administration

[Docket No. OSHA-2011-0033]

Standard on the Control of Hazardous Energy (Lockout/Tagout); Extension of the Office of Management and Budget's (OMB) Approval of Information Collection (Paperwork) Requirements

AGENCY: Occupational Safety and Health Administration (OSHA), Labor.

ACTION: Request for public comments.

SUMMARY: OSHA solicits public comments concerning its proposal to extend OMB approval of the information collection requirements specified in the Standard on the Control of Hazardous Energy (Lockout/Tagout) (29 CFR 1910.147).

DATES: Comments must be submitted (postmarked, sent, or received) by April 18, 2011.

ADDRESSES: Electronically: You may submit comments and attachments electronically at http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit your comments and attachments to the OSHA Docket Office, Docket No. OSHA-2011-0033, U.S. Department of Labor, Occupational Safety and Health Administration, Room N-2625, 200 Constitution Avenue, NW., Washington, DC 20210. Deliveries (hand, express mail, messenger, and courier service) are accepted during the Department of Labor's and Docket Office's normal business hours, 8:15 a.m. to 4:45 p.m., e.t.

Instructions: All submissions must include the Agency name and the OSHA docket number for the Information Collection Request (ICR) (OSHA-2011-0033). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download through the Web site. All submissions, including copyrighted material, are available for inspection and copying at the OSHA Docket Office. You may also contact Theda Kenney at the address below to obtain a copy of the ICR.

FOR FURTHER INFORMATION CONTACT: Theda Kenney or Todd Owen, Directorate of Standards and Guidance, OSHA, U.S. Department of Labor, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

The Standard specifies several information collection requirements. The following sections describe who uses the information collected under each requirement, as well as how they use it. The purpose of these requirements is to control the release of hazardous energy sources while workers service, maintain, or repair machines or equipment when activation, start up, or release of energy from an energy source is possible; proper control of hazardous energy sources prevent death or serious injury among these workers.

Energy Control Procedure (paragraph (c)(4)(i)). With limited exception, employers must document the procedures used to isolate from its energy source and render inoperative, any machine or equipment prior to servicing, maintenance, or repair by workers. These procedures are necessary when activation, start up, or release of stored energy from the energy source is possible, and such release could cause injury to the workers.

Paragraph (c)(4)(ii) states that the required documentation must clearly and specifically outline the scope, purpose, authorization, rules, and techniques workers are to use to control hazardous energy, and the means to enforce compliance. The document must include at least the following elements:

(A) A specific statement regarding the use of the procedure;

(B) Detailed procedural steps for shutting down, isolating, blocking, and securing machines or equipment to control hazardous energy,

(C) Detailed procedural steps for placing, removing, and transferring lockout or tagout devices, including the responsibility for doing so; and,

(D) Requirements for testing a machine or equipment to determine and verify the effectiveness of lockout or tagout devices, as well as other energy control measures.

The employer uses the information in this document as the basis for informing and training workers about the purpose and function of the energy control procedures, and the safe application, use, and removal of energy controls. In addition, this information enables employers to effectively identify operations and processes in the workplace that require energy control procedures.

Periodic Inspection (paragraph (c)(6)(ii)). Under paragraph (c)(6)(i), employers are to conduct inspections of energy control procedures at least annually. An authorized worker (other than an authorized worker using the energy control procedure that is the subject of the inspection) is to conduct the inspection and correct any deviations or inadequacies identified. For procedures involving either lockout or tagout, the inspection must include a review, between the inspector and each authorized worker, of that worker's responsibilities under the procedure; for procedures using tagout systems, the review also involves affected workers, and includes an assessment of the workers' knowledge of the training elements required for these systems. Paragraph (c)(6)(ii) requires employers to certify the inspection by documenting the date of the inspection and identifying the machine or equipment inspected, the workers included in the inspection, and the worker who performed the inspection.

Training and Communication (paragraph (c)(7)(iv)). Paragraph (c)(7)(i) specifies that employers must establish a training program that enables workers to understand the purpose and function of the energy control procedures, and provides them with the knowledge and skills necessary for the safe application, use, and removal of energy controls. According to paragraph (c)(7)(i), employers are to ensure that: authorized workers recognize the applicable hazardous energy sources, the type and magnitude of the energy available in the workplace, and the methods and means necessary for energy isolation and control; affected workers obtain instruction on the purpose and use of the energy control procedure; and other workers who work, or may work, near operations using the energy control procedure receive training about the procedure, as well as the prohibition regarding attempts to restart or reactivate machines or equipment having locks or tags to control energy release.

Under paragraph (c)(7)(ii), when the employer uses a tagout system, the training program must inform workers that: Tags are warning labels affixed to energy isolating devices, and, therefore, they do not provide the physical restraint on those devices that locks do; workers are not to remove tags attached to an energy isolating device unless permitted to do so by the authorized worker responsible for the tag, and they are never to bypass, ignore, or in any manner defeat the tagout system; tags must be legible and understandable by authorized and affected workers, as well as by other workers who work, or may work, near operations using the energy control procedure; the materials used for tags, including the means of attaching them, must withstand the environmental conditions encountered in the workplace; tags may evoke a false sense of security, and workers must understand that tags are only part of the overall energy control program; and they must attach tags securely to energy isolating devices to prevent removal of the tags during use.

Paragraph (c)(7)(iii) states that employers must retrain authorized and affected workers when a change occurs in: Their job assignments, the machines, equipment, or processes such that a new hazard is present; and the energy control procedures. Employers also must provide retraining when they have reason to believe, or periodic inspection required under paragraph (c)(6) indicates, that deviations and inadequacies exist in a worker's knowledge or use of energy control procedures. The retraining must reestablish worker proficiency and, if necessary, introduce new or revised energy control procedures.

Under paragraph (c)(7)(iv), employers are to certify that workers completed the required training, and that this training is up-to-date. The certification is to contain each worker's name and the training date.

Training workers to recognize hazardous energy sources and to understand the purpose and function of the energy control procedures, and providing them with the knowledge and skills necessary to implement safe application, use, and removal of energy controls, enables them to prevent serious accidents by using appropriate control procedures in a safe manner to isolate these hazards. In addition, written certification of the training assures the employer that workers receive the training specified by the Standard.

Disclosure of Inspection and Training Certification Records (paragraphs (c)(6)(ii) and (c)(7)(iv)). The inspection records provide employers with assurance that workers can safely and effectively service, maintain, and repair machines and equipment covered by the Standard. These records also provide the most efficient means for an OSHA compliance officer to determine that an employer is complying with the Standard, and that the machines and equipment are safe for servicing, maintenance, and repair. The training records provide the most efficient means for an OSHA compliance officer to determine whether an employer has performed the required training.

Notification of Employees (paragraph (c)(9)). This provision requires the employer or authorized worker to notify affected workers prior to applying, and after removing, a lockout or tagout device from a machine or equipment. Such notification informs workers of the impending interruption of the normal production operation, and serves as a reminder of the restrictions imposed on them by the energy control program. In addition, this requirement ensures that workers do not attempt to reactivate a machine or piece of equipment after an authorized worker isolates its energy source and renders it inoperative. Notifying workers after removing an energy control device alerts them that the machines and equipment are no longer safe for servicing, maintenance, and repair.

Off-site Personnel (Contractors, etc.) (paragraph (f)(2)(i)). When the on-site employer uses an off-site employer (e.g., a contractor) to perform the activities covered by the scope and application of the Standard, the two employers must inform each other regarding their respective lockout or tagout procedures. This provision ensures that each employer knows about the unique energy control procedures used by the other employer; this knowledge prevents any misunderstanding regarding the implementation of lockout or tagout procedures, and the use of lockout or tagout devices for a particular application.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting that OMB extend its approval of the information collection requirements contained in the Standard on the Control of Hazardous Energy (Lockout/Tagout) (29 CFR 1910.147). The Agency is requesting a net decrease of 24,182 burden hours (from 3,013,603 to 2,989,421). The Agency will summarize the comments submitted in response to this notice and will include this summary in the request to OMB.

Type of Review: Extension of a currently approved collection.

Title: Standard on the Control of Hazardous Energy (Lockout/Tagout) (29 CFR 1910.147).

OMB Number: 1218-0150.

Affected Public: Business or other for-profits.

Number of Respondents: 773,632.

Total Responses: 82,957,470.

Frequency of Recordkeeping: Initially; Annually; On occasion.

Estimated Time per Response: Varies from 15 seconds (.004 hour) for an employer or authorized worker to notify affected workers prior to applying, and after removing, a lockout/tagout device from a machine or equipment to 80 hours for certain employers to develop energy control procedures.

Total Burden Hours: 2,989,421.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (fax); or (3) by hard copy. All comments, attachments, and other material must identify the Agency name and the OSHA docket number for the ICR (Docket No. OSHA-2011-0033). You may supplement electronic submissions by uploading document files electronically. If you wish to mail additional materials in reference to an electronic or facsimile submission, you must submit them to the OSHA Docket Office (see the section of this notice titled ADDRESSES). The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350, (TTY (877) 889-5627).

Comments and submissions are posted without change at http://www.regulations.gov. Therefore, OSHA cautions commenters about submitting personal information such as social security numbers and date of birth. Although all submissions are listed in the http://www.regulations.gov index, some information (e.g., copyrighted material) is not publicly available to read or download through this Web site. All submissions, including copyrighted material, are available for inspection and copying at the OSHA Docket Office. Information on using the http://www.regulations.gov Web site to submit comments and access the docket is available at the Web site's “User Tips” link. Contact the OSHA Docket Office for information about materials not available through the Web site, and for assistance in using the Internet to locate docket submissions.

V. Authority and Signature

David Michaels, PhD, MPH, Assistant Secretary of Labor for Occupational Safety and Health, directed the preparation of this notice. The authority for this notice is the Paperwork Reduction Act of 1995 (44 U.S.C. 3506 et seq.) and Secretary of Labor's Order No. 4-2010 (75 FR 55355).

Signed at Washington, DC, on February 10, 2011.
David Michaels,
Assistant Secretary of Labor for Occupational Safety and Health.

[FR Doc. 2011-3366 Filed 2-14-11; 8:45 am]

BILLING CODE 4510-26-P